DEPARTMENT OF HEALTH AND HUMAN SERVICES

Centers for Disease Control and Prevention

American Indian and Alaskan Native STD

Announcement Type: New.

Funding Opportunity Number: 04202.

Catalog of Federal Domestic Assistance Number: 93.977.

Key Dates:

Application Deadline: July 12, 2004.

Executive Summary: American Indian and Alaska Native (AI/AN) populations experience disproportionately high rates of sexually transmitted diseases (STDs). Compared to Caucasians, in 2002, AI/ANs were almost six times as likely to have chlamydia, four times as likely to have gonorrhea, and twice as likely to have syphilis; rates are higher among certain tribes (CDC Sexually Transmitted Disease Surveillance 2002). Chlamydia and gonorrhea can result in pelvic inflammatory disease, ectopic pregnancy, and infertility in women. Additionally, these diseases can result in pneumonia, eye infections and other complications in newborns. Syphilis can result in fetal death and stillbirths.

CDC currently provides Comprehensive STD Prevention Services grants to fund 65 project areas (50 States, seven cities, and eight territories) to carry out essential functions in the prevention of STDs. Additionally, a Memorandum of Agreement (MOA) with the Indian Health Service provides for disease surveillance and other STD programmatic support. Currently there is no direct STD funding for Indian communities. This program announcement will enable CDC to build new programs in a traditionally underserved area.

I. Funding Opportunity Description

Authority: This program is authorized under sub-Section 318 (a)(b)(c) of the Public Health Service Act [42 U.S.C. 247c (a), (b) and (c)], as amended. Regulations governing the implementation of this legislation are covered under 42 CFR Part 51b, subparts A and D.

Purpose: The purpose of the program is to strengthen local capacity of AI/AN communities on Native American reservations to screen and arrange for the treatment of sexually transmitted diseases; and to educate local populations about such diseases, the consequences thereof, and how the transmission of such diseases can be prevented.

This program addresses the “Healthy People 2010” focus area of Sexually Transmitted Diseases, which is aimed at addressing health disparities among racial and ethnic minority populations.

Measurable outcomes of the program will be in alignment with the following performance goals for the National Center for HIV, STD and TB Prevention (NCHSTP): (1) To reduce STD rates by providing Chlamydia and gonorrhea screening, treatment, and partner treatment to 50 percent of women in publicly funded clinics; (2) To reduce the incidence of primary and secondary syphilis; and (3) To reduce the incidence of congenital syphilis.

Activities: Awardee activities for this program are as follows:

1. Determine and describe the area's STD morbidity; identify available STD and related health programs; identify resources for STD prevention programs, including community partners that serve the target population; and identify gaps in STD prevention programs.

2. Develop a three-year action plan, which includes objectives that are specific, measurable, achievable, relevant, and time-phased. Objectives should address the following: (a) Creating awareness among tribal or reservation councils about STD problems in their communities and how to prevent STDs; (b) working closely with CDC's Prevention Training Centers and developing collaborations with state and local health departments, regional infertility prevention programs, Indian Health Service, tribal epidemiological centers, and other relevant partners to share resources and information that could strengthen an STD program; (c) ensuring screening and treatment for STD either directly or by partnership with clinics that could provide screening and treatment; and (d) educating the local population about STDs, the consequences thereof, and how the transmission of such diseases can be prevented. The plan should consider culturally appropriate behavioral, policy, and community approaches to prevention of STDs.

3. Develop an evaluation plan to: (a) Monitor and measure the progress toward achieving each objective; and (b) determine how program activities affect the target population.

In a cooperative agreement, CDC staff is substantially involved in the program activities, above and beyond routine grant monitoring.

CDC activities for this program are as follows:

1. In collaboration with the recipient, provide training on developing prevention strategies (e.g., building scientific capacity, collaboration and partnerships, implementing guidelines and modeling programs on disease prevention, etc.) that prepare tribes to mobilize and engage in STD prevention activities.

2. Provide technical assistance through site visits, conference calls, resource materials, strategic planning and updated information, as needed. Facilitate communications locally, regionally, and nationally regarding resources and other opportunities involving the implementation of the action plan activities.

3. Provide technical assistance and participate in the evaluation of the action plan objectives.

4. Facilitate linkages with State and Local STD Programs, Indian Health Service, STD/HIV Prevention Training Centers, and Tribal Epidemiological Centers.

II. Award Information

Type of Award: Cooperative Agreement.

CDC involvement in this program is listed in the Activities Section above.

Fiscal Year Funds: 2004.

Approximate Total Funding: $463,836.

Approximate Number of Awards: One to three awards.

Approximate Average Award: $154,612.

Floor of Award Range: $150,000.

Ceiling of Award Range: $463,836.

Anticipated Award Date: September 1, 2004.

Budget Period Length: Twelve months.

Project Period Length: Three years.

Throughout the project period, CDC's commitment to continuation of awards will be conditioned on the availability of funds, evidence of satisfactory progress by the recipient (as documented in required reports), and the determination that continued funding is in the best interest of the Federal Government.

III. Eligibility Information

III.1. Eligible Applicants

Eligible applicants are federally recognized AI/AN tribal governments and corporations; non-federally recognized tribes and other organizations that qualify under the Indian Civil Rights Act, State Charter Tribes, Urban Indian Health Programs, Indian Health Boards, Inter-Tribal Councils; and other tribal organizations, including urban and eligible inter-tribal consortia.

Tribal organizations, inter-tribal consortia, and urban organizations are eligible if incorporated for the primary purpose of improving AI/AN health and representing such interests for the tribes, Alaska Native Villages and corporations, or urban Indian communities located in its region. AI/AN tribes or urban communities represented may be located in one state or in multiple states. An urban organization is defined as a non-profit corporate body situated in an urban center eligible for services under Title V of the Indian Health Care Improvement Act, PL 94-437, as amended.

Eligibility is limited to the aforementioned applicants because they have the necessary knowledge of, experience with, and capacity to work within the AI/AN communities to perform the required activities, and have the experience needed to successfully perform the required activities.

III.2. Cost Sharing or Matching

Matching funds are not required for this program.

III.3. Other

CDC will accept and review applications with budgets greater than the ceiling of the award range.

If your application is incomplete or non-responsive to the requirements listed in this section, it will not be entered into the review process. You will be notified that your application did not meet submission requirements.

CDC may choose to schedule pre-decisional site visits prior to the awarding of funds.

Note: Title 2 of the United States Code Section 1611 states that an organization described in section 501(c)(4) of the Internal Revenue Code that engages in lobbying activities is not eligible to receive Federal funds constituting an award, grant, or loan.

IV. Application and Submission Information

IV.1. Address to Request Application Package

To apply for this funding opportunity use application form PHS 5161-1. Application forms and instructions are available on the CDC web site, at the following Internet address: http://www.cdc.gov/od/pgo/forminfo.htm.

If you do not have access to the Internet, or if you have difficulty accessing the forms on-line, you may contact the CDC Procurement and Grants Office Technical Information Management Section (PGO-TIM) staff at: (770) 488-2700. Application forms can be mailed to you.

IV.2. Content and Form of Submission

Application: You must submit a project narrative with your application forms. The narrative must be submitted in the following format:

• Maximum number of pages: 40

If your narrative exceeds the page limit, only the first pages, which are within the page limit, will be reviewed.

• Font size: 12 point unreduced

• Single spaced

• Paper size: 8.5 by 11 inches

• Page margin size: One inch

• Printed only on one side of page

• Held together only by rubber bands or metal clips; not bound in any other way.

Your narrative should address activities to be conducted over the entire project period, and must include the following items in the order listed:

1. Background

The applicant should describe:

a. The tribe, organization, or consortia including purpose or mission (if applicable), years of existence (if applicable), and experience in representing the health-related interests of the represented tribe(s).

b. The total population size of the tribe(s) represented, geographic location(s) and proximity to the applicant.

c. How affected community members will be included in the development and implementation of the Action Plan.

d. The applicant's capacity and ability to conduct the activities as evidenced by current and past experience in:

i. Providing leadership in the development of health-related programs, training programs or health promotion campaigns.

ii. Networking and building partnerships and alliances with other organizations.

iii. Providing STD or other public health disease prevention and control programs including descriptions of activities and initiatives developed and implemented.

2. Need

The applicant should document:

a. The need for building capacity to address STDs for the identified AI/AN population, including the impact of STDs on the community, discussion of morbidity rates (incidence, prevalence or positivity data) and any variations in rates among represented tribe(s), or other evidence of health disparity.

b. The need to strengthen existing data and add new data about STD in the community. Since reporting authority resides in the State Health Departments or Authorities, the recipient will be required to work with the States to ensure accuracy, and completeness of reporting.

c. The need for STD prevention and control strategies that are culturally appropriate including discussion of the challenges, limitations, and other opportunities for implementing effective STD prevention programs.

d. The need to develop a comprehensive and sustainable community action plan among the represented tribe(s), and community partners that serve the target population.

3. Action Plan and Implementation

The applicant should clearly describe how it will:

a. Work with the tribe(s) to ensure that leaders are committed to the need for strengthening local capacity.

b. Collaborate with appropriate partners (e.g., Indian Health Service, tribal, state, local health departments, Tribal Epidemiological Centers, STD/HIV Prevention Training Centers, Infertility Prevention Programs, HIV, Drug and Alcohol programs, Community Health Representative Programs, and other relevant public or private organizations in carrying out the activities.

c. Provide screening and treatment for STD directly or through referral.

d. Develop and disseminate STD prevention education that meets the educational and cultural needs of the target population;

e. Provide culturally competent training and technical assistance programs to increase the skill-level of tribes and partners in areas such as surveillance, health education, and other relevant topics.

f. Communicate with and disseminate information and guidance to the represented tribe(s) and their memberships (e.g., newsletters, conferences, and meeting minutes).

g. The applicant should provide time lines for initiation and completion of all proposed activities for the three-year project period. This should include who will be the target population and how each proposed activity will be achieved.

4. Evaluation Plan

a. Design and develop an evaluation plan that will monitor and measure the progress toward achieving each objective and determine how program activities affect the target population. Specifically, the applicant should describe:

i. How the applicant plans to measure the implementation and progress of the activities in achieving the objectives during the three-year project period (e.g., commitment of leaders to strengthen STD prevention programs, development of partnerships with relevant partners, identification of resources to gather STD data, identification of clinics that could provide screening and treatment for STD, development of educational STD prevention campaigns, etc.);

ii. How the applicant will document success in developing an STD prevention program for the tribe(s) (e.g., number of persons screened and treated for STD, number of providers attending culturally competent STD trainings, number of target community attending educational presentations, etc.); and

iii. How the applicant will assess the quantity and quality of networking efforts (e.g., number of planning meetings, degree of collaboration with leadership and other STD prevention programs, degree of collaboration with other organizations, etc.).

5. Management Plan

The applicant should describe how the project will be managed to accomplish all proposed activities. Specifically, the applicant should:

a. Include a description of proposed staffing for the project, provide job descriptions, and indicate if the positions currently exist or are proposed. Staffing should include the commitment of at least one full-time staff member to provide direction for the proposed activities. Information should be provided that demonstrates that the staff has the professional background, experience, and organizational support needed to fulfill the proposed responsibilities. Where possible, the applicant should identify staff responsible for completing each activity.

b. Provide letters of commitment from represented tribe(s) leadership which indicates the tribe's willingness to participate in the program, as well as letters of collaboration describing specific activities to be provided for this effort with other public and private health entities including State Health Departments, State Laboratories, Indian Health Service, and Tribal Epidemiological Center. Signed originals should be provided in the Appendix.

c. Submit a copy of its organizational chart, and describe existing structure and how it supports the development of the proposed plan for STD prevention.

6. Performance Measures (Included in Page Limit)

The applicant is required to:

a. Provide measures of effectiveness that will demonstrate the accomplishment of the various identified objectives of the cooperative agreement. Measures of effectiveness must relate to the performance goals stated in the “Purpose” section of this announcement.

b. Measures must be objective and quantitative, and must measure the intended outcome.

c. These measures of effectiveness must be submitted with the application and will be an element of the evaluation process.

7. Budget Justification

a. The applicant should provide a one year detailed budget, with accompanying justification of all operating expenses that is consistent with the stated objectives and planned activities of the project.

b. Page limits will not apply to the budget justification.

Additional information may be included in the application appendices. The appendices will not be counted toward the narrative page limit. This additional information includes:

• Curriculum Vitaes and resumes of staff

• Organizational Charts

• Letters of collaboration with Prevention Training Centers and other partners

You are required to have a Dun and Bradstreet Data Universal Numbering System (DUNS) number to apply for a grant or cooperative agreement from the Federal government. The DUNS number is a nine-digit identification number, which uniquely identifies business entities. Obtaining a DUNS number is easy and there is no charge. To obtain a DUNS number, access http.www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

Application Deadline Date: July 12, 2004.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Executive Order 12372 does not apply to this program.

IV.5. Funding Restrictions

Restrictions, which must be taken into account while writing your budget, are as follows:

• Funds may be spent for reasonable program purposes, including personnel, travel, supplies, and services. Equipment may be purchased if deemed necessary to accomplish program objectives; however, prior approval by CDC officials must be requested in writing.

• The applicant may contract with other organizations under this program; however the applicant must perform a substantial portion of the activities (including program management and operations, and delivery of prevention services for which funds are required).

If you are requesting indirect costs in your budget, you must include a copy of your indirect cost rate agreement. If your indirect cost rate is a provisional rate, the agreement should be less than 12 months of age.

For all contracts, provide: (1) Name of contractor; (2) period of performance; (3) method of selection (e.g., competitive or sole source); (4) description of activities; (5) reason for contracting activities; and (6) itemized budget.

Awards will not allow reimbursement of pre-award costs.

Guidance for completing your budget can be found on the CDC Web site, at the following Internet address: http://www.cdc.gov/od/pgo/funding/budgetguide.htm.

IV.6. Other Submission Requirements

Application Submission Address: Submit the original and two hard copies of your application by mail or express delivery service to: Technical Information Management-PA 04202, CDC Procurement and Grants Office, 2920 Brandywine Road, Atlanta, GA 30341.

Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

Action Plan and Implementation (30 Points)

Does the plan address: (1) How the applicant will work with tribe(s) to assure leaders are committed to strengthening local capacity? (2) Appropriate collaborations with relevant partners to carry out activities? (3) How screening and treatment for STD will be provided? (4) The development and dissemination of STD-prevention education that meets the needs of the target population? (5) Training and technical assistance that is culturally competent for relevant topics identified? (6) Communication and dissemination of information and guidance to tribes and membership? (8) Time lines for initiation and completion of all proposed activities for the three-year project period that identifies the target population and how each proposed activity will be achieved?

Is the plan realistic and are its objectives specific, measurable, achievable, relevant, time-phased, and likely to be accomplished during the three-year project period?

Evaluation Plan (20)

Does the evaluation plan describe how the applicant plans to measure the implementation and progress of the activities in achieving the objectives during the three-year project period? Does the applicant describe how it will document success in developing an STD prevention program for the tribe(s)? Does the applicant describe how it will assess the quantity and quality of networking efforts?

Management Plan (20 points)

Does the applicant include a description of proposed staffing for the project, provide job descriptions and indicate if the positions exist or are proposed? Does the applicant include the commitment of at least one full-time staff member to provide direction for proposed activities? Does the applicant provide staffing information including adequate background information to show qualifications of staff? Does the applicant identify staff responsible for completing each activity?

Does the application provide letters of commitment from represented tribal leadership indicating the tribe's willingness to participate in the program, as well as letters of collaboration with prevention training centers, other public health entities including state health departments, state laboratories, Indian health services, and tribal epidemiological centers? Signed originals should be provided in the Appendix.

Does the application include a copy of its organizational chart, and describe existing structure and how it supports the development of the proposed Capacity Building Plan for STD prevention?

Background (15 points)

Does the applicant describe the tribe, organization, or consortia, including purpose or mission (if applicable), years of existence (if applicable), and experience in representing the health-related interests of the represented tribe(s)? Does the applicant describe the total population size of the tribe(s) represented, geographic location(s) and proximity to the applicant? Does the applicant explain how affected community members will be included in the development and implementation of the Action Plan? Does the applicant describe its capacity and ability to conduct the activities as evidenced by current and past experience in providing leadership in the development of health-related programs, training programs or health promotion campaigns; networking and building partnerships and alliances with other organizations; and, providing STD or other public health disease prevention and control programs including descriptions of activities and initiatives developed and implemented?

Need (15 points)

Does the applicant document the need: (1) For building capacity to address STDs? (2) To strengthen existing data and add new data about STD, including a commitment to work with states to ensure accuracy and completeness of reporting? (3) For STD prevention and control strategies that are culturally appropriate including discussion of the challenges, limitations, and other opportunities for implementing effective STD prevention programs? (4) To develop a comprehensive and sustainable community action plan among represented tribes and community partners that serve the target population?

V.2. Review and Selection Process

Applications will be reviewed for completeness by the Procurement and Grants Office (PGO) staff, and for responsiveness by staff in the NCHSTP. Incomplete applications and applications that are non-responsive to the eligibility criteria will not advance through the review process. Applicants will be notified that their application did not meet submission requirements.

An objective review panel will evaluate complete and responsive applications according to the criteria listed in the “V.1. Criteria” section above.

V.3. Anticipated Announcement and Award Dates

September 1, 2004

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-4 HIV/AIDS Confidentiality Provisions

• AR-5 HIV Program Review Panel Requirements

• AR-6 Patient Care

• AR-8 Public Health System Reporting Requirements

• AR-11 Healthy People 2010

• AR-14 Accounting System Requirements

• AR-15 Proof of Non-Profit Status

• AR-16 Security Clearance Requirement

• AR-21 Small, Minority, and Women-Owned Business

• AR-22 Research Integrity

• AR-24 Health Insurance Portability and Accountability Act Requirements

Additional information on these requirements can be found on the CDC Web site at the following Internet address: http://www.cdc.gov/od/pgo/funding/ARs.htm.

VI.3. Reporting Requirements

You must provide CDC with an original, plus two hard copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Budget.

e. Additional Requested Information.

f. Measures of Effectiveness.

2. Financial status report is required no more than 90 days after the end of the budget period.

3. Final financial and performance reports, no more than 90 days after the end of the project period.

These reports must be mailed to the Grants Management or Contract Specialist listed in the “Agency Contacts” section of this announcement.

VII. Agency Contacts

For general questions about this announcement, contact: Technical Information Management Section, CDC Procurement and Grants Office, 2920 Brandywine Road, Atlanta, GA 30341, Telephone: 770-488-2700.

For program technical assistance, contact:

Kim Seechuk, Deputy Chief, Program Development and Support Branch, Division of STD Prevention, 1600 Clifton Road, NE, MS E-27, Atlanta, GA 30333, Telephone: 404-639-8339, E-mail: kgs0@cdc.gov.

For financial, grants management, or budget assistance, contact:

Gladys T. Gissentanna, Contract Specialist, CDC Procurement and Grants Office, 2920 Brandywine Road, Atlanta, GA 30341, Telephone: 770-488-2753, E-mail: gcg4@cdc.gov.

Dated: June 4, 2004.
William P. Nichols,
Acting Director, Procurement and Grants Office, Centers for Disease Control and Prevention.

[FR Doc. 04-13138 Filed 6-9-04; 8:45 am]

BILLING CODE 4163-18-P